DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Survey of Construction, Questionnaire for Building Permit Official.

Form Number(s): SOC-QBPO.

OMB Control Number: 0607-0125.

Type of Request: Revision of a currently approved collection.

Burden Hours: 225.

Number of Respondents: 900.

Average Hours per Response: 15 minutes.

Needs and Uses: The information collected on the SOC-QBPO is necessary to carry out the sampling for the Survey of Housing Starts, Sales and Completions (OMB Control No. 0607-0110), also known as the Survey of Construction (SOC). Government agencies and private companies use statistics from SOC to monitor and evaluate the large and dynamic housing construction industry.

The Census Bureau field representatives (FRs) use the SOC-QBPO to obtain information on the operating procedures of a permit office. This enables them to locate, classify, list, and sample building permits for residential construction. These permits are used as the basis for the sample selected for SOC. The Manufacturing and Construction Division (MCD), within the Census Bureau, also uses the information to verify and update the geographic coverage of permit offices.

The failure to collect this information would make it difficult, if not impossible, to accurately classify and sample building permits for the SOC. The SOC produces data for two principal economic indicators: New Residential Construction (housing starts and housing completions) and New Residential Sales. Information from the SOC is also used in the estimation of the value of new residential construction put in place for the Census Bureau's data on construction spending.

The Census Bureau is requesting a revision of the currently approved collection. The SOC-QBPO is an electronic questionnaire. Census Bureau FRs use Computer Assisted Personal Interviewing (CAPI) to collect the data. The CAPI software for all SOC data collection is being rewritten and modernized to work on laptop computers with the Microsoft Windows operating system. As part of this revision, the Census Bureau identified improvements to the SOC-QBPO questionnaire, including eliminating questions that are no longer necessary and adding new data items to improve the sampling for the Survey of Construction.

Affected Public: State, local or tribal government.

Frequency: Annually.

Respondent's Obligation: Voluntary.

Legal Authority: Title 13, United States Code, Section 182.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin,OMB Desk Officer either by fax (202-395-7245) or e-mail (bharrisk@omb.eop.gov).

Dated: May 1, 2008.
Gwellnar Banks,
Management Analyst, Office of the Chief Information Officer.

[FR Doc. E8-9933 Filed 5-5-08; 8:45 am]

BILLING CODE 3510-07-P